DEPARTMENT OF ENERGY

Federal Energy Regulatory Commission

[Docket No. CP02-423-000]

Northwest Pipeline Corporation; Notice of Application

August 21, 2002.

Take notice that on August 13, 2002, Northwest Pipeline Corporation (Northwest), 295 Chipeta Way, Salt Lake City, Utah, 84158, filed in [Docket No. CP02-423-000, an application, pursuant to Sections 7(b) and (c) of the Natural Gas Act and Part 157 of the Federal Energy Regulatory Commission's Regulations for permission and approval authorizing Northwest to abandon certain facilities and a certificate of public convenience and necessity to construct and operate certain replacement facilities in LaPlata County, Colorado, all as more fully set forth in the application which is on file with the Commission and open to public inspection. This filing is available for review at the Commission in the Public Reference Room or may be viewed on the Commission's Web site at http://www.ferc.gov using the “FERRIS” link. Enter the docket number excluding the last three digits in the docket number field to access the document. For Assistance, call (202) 502-8222 or for TTY, (202) 208-1659.

Specifically, Northwest proposes to abandon approximately 4.98 miles of 26-inch pipeline and the Durango delivery tap and to replace the abandoned facilities by constructing and operating 6.9 miles of 26-inch pipeline and a new Durango Meter Station. It is stated that the delivery tap being abandoned and the meter station proposed for construction are for deliveries of natural gas to Greeley Gas Company (Greeley). It is explained that the reason for replacing the existing facilities is that the United States Bureau of Reclamation (USBOR) is planning to construct the Ridges Basin Dam and Reservoir (Ridges Basin), part of a major water project designed to provide water for municipal and industrial uses in the Four Corners Region of Colorado and New Mexico. It is asserted that Northwest's existing facilities lie within the boundaries of Ridges Basin and must be relocated in order to maintain the operational integrity of Northwest's mainline and to avoid significant reliability concerns associated with inundation of the facilities by construction of Ridges Basin. Northwest states that it plans to complete the new facilities by summer of 2003 in order to avoid interference with USBOR's construction schedule.

Northwest estimates the cost of the proposed facilities at approximately $16.9 million and states that all costs will be reimbursed by USBOR.

Any questions regarding this application should be directed to Gary Kotter, Manager, Certificates and Tariffs, at (801) 584-7117, Northwest Pipeline Corporation, P.O. Box 58900, Salt Lake City, Utah 84158.

Any person desiring to be heard or to make any protest with reference to said application should on or before September 4, 2002 file with the Federal Energy Regulatory Commission, 888 First Street, NE., Washington, DC 20426, a motion to intervene or protest in accordance with the requirements of the Commission's rules of practice and procedure (18 CFR 385.211 and 385.214) and the regulations under the Natural Gas Act (18 CFR 157.10). All protests filed with the Commission will be considered by it in determining the appropriate action to be taken but will not serve to make the protestants parties to the proceeding. Any person wishing to become a party to any proceeding must file a motion to intervene in accordance with the Commission's rules. Comments, protests and interventions may be filed electronically via the Internet in lieu of paper. See, 18 CFR 385.2001(a)(1)(iii) and the instructions on the Commission's web site under the “e-Filing” link. The Commission strongly encourages electronic filings.

A person obtaining intervenor status will be placed on the service list maintained by the Secretary of the Commission and will receive copies of all documents issued by the Commission, filed by the applicant, or filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered, a person, instead, may submit two copies of such comments to the Secretary of the Commission. Commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by Commenters or those requesting intervenor status. Take further notice that, pursuant to the authority contained in and subject to the jurisdiction conferred upon the Commission by Sections 7 and 15 of the Natural Gas Act and the Commission's Rules of Practice and Procedure, a hearing will be held without further notice before the Commission or its designee on this application if no motion to intervene is filed within the time required herein, if the Commission on its own review of the matter finds that a grant of the certificate authority is required by the public convenience and necessity. If a motion for leave to intervene is timely filed, or if the Commission on its own motion believes that a formal hearing is required, further notice of such hearing will be duly given. Under the procedure herein provided for, unless otherwise advised it, will be unnecessary for Northwest to appear or be represented at the hearing.

Linwood A. Watson, Jr.,
Deputy Secretary.

[FR Doc. 02-21845 Filed 8-27-02; 8:45 am]

BILLING CODE 6717-01-P